DEPARTMENT OF TRANSPORTATION

Federal Aviation Administration

14 CFR Part 39

[Docket No. 2001-NM-253-AD]

RIN 2120-AA64

Airworthiness Directives; Airbus Model A300 B2 and A300 B4; A300 B4-600, B4-600R, and F4-600R (Collectively Called A300-600); and Model A310 Series Airplanes

AGENCY: Federal Aviation Administration, DOT.

ACTION: Notice of proposed rulemaking (NPRM).

SUMMARY: This document proposes the adoption of a new airworthiness directive (AD) that is applicable to certain Airbus Model A300 B2 and A300 B4; A300 B4-600, B4-600R, and F4-600R (collectively called A300-600); and A310 series airplanes. This proposal would require repetitive overhaul, including associated modifications, of the ram air turbine (RAT). This action is necessary to prevent failure of the RAT to deploy or operate properly in the event of an emergency, which could result in reduced hydraulic pressure or electrical power on the airplane. This action is intended to address the identified unsafe condition.

DATES: Comments must be received by December 19, 2001.

ADDRESSES: Submit comments in triplicate to the Federal Aviation Administration (FAA), Transport Airplane Directorate, ANM-114, Attention: Rules Docket No. 2001-NM-253-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2001-NM-253-AD” in the subject line and need not be submitted in triplicate. Comments sent via the Internet as attached electronic files must be formatted in Microsoft Word 97 for Windows or ASCII text.

The service information referenced in the proposed rule may be obtained from Airbus Industrie, 1 Rond Point Maurice Bellonte, 31707 Blagnac Cedex, France. This information may be examined at the FAA, Transport Airplane Directorate, 1601 Lind Avenue, SW., Renton, Washington.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket 2001-NM-253-AD.” The postcard will be date stamped and returned to the commenter.

Availability of NPRMs

Any person may obtain a copy of this NPRM by submitting a request to the FAA, Transport Airplane Directorate, ANM-114, Attention: Rules Docket 2001-NM-253-AD, 1601 Lind Avenue, SW., Renton, Washington 98055-4056.

Discussion

The Direction Gánérale de l'Aviation Civile (DGAC), which is the airworthiness authority for France, notified the FAA that an unsafe condition may exist on certain Airbus Model A300 B2 and A300 B4; A300 B4-600, B4-600R, and F4-600R (collectively called A300-600); and A310 series airplanes. The DGAC advises that the life limit of the ram air turbine (RAT) has been recently justified to 60,000 flight hours. Although the life limit of the RAT itself has been extended, the life limit of the grease must also be considered because of the possible development of corrosion. Therefore, periodic overhaul of the RAT has been recommended to ensure its proper functioning. In addition, the DGAC has identified certain modifications to the RAT or its associated systems that need to be incorporated to ensure a properly functioning RAT system in the event of an emergency. Failure of the RAT to deploy or operate properly, if not corrected, could result in reduced hydraulic pressure or electrical power on the airplane in the event of an emergency.

Explanation of Relevant Service Information

Airbus has issued Service Bulletin A300-29-0118, dated April 20, 2001 (for Model A300 B2 and A300 B4 series airplanes); A300-29-6049, Revision 02, dated September 10, 2001 (for Model A300-600 series airplanes); and A310-29-2087, dated April 20, 2001 (for Model A310 series airplanes). These service bulletins describe procedures for repetitive overhaul of the RAT.

The service bulletins refer to Hamilton Sundstrand Service Bulletins 730816-29-12, ERPS26T-29-4, and 732365-29-4 as additional sources of service information for the overhaul actions.

Airbus Service Bulletin A300-29-0118 recommends the prior or concurrent accomplishment of modifications described in the following Airbus Service Bulletins:

• A300-29-0106, Revision 04, dated March 22, 2001, which describes procedures for installing a grease nipple and a scraper seal assembly and replacing the locking rod spring with a stronger spring. Service Bulletin A300-29-0106 refers to Hamilton Sundstrand Service Bulletin ERPS26T-29-1 as an additional source of service information for the actions.

• A300-29-0115, Revision 01, dated June 28, 2000, which describes procedures for replacing the RAT with a modified RAT. Airbus Service Bulletin A300-29-0115 refers to Hamilton Sundstrand Service Bulletin ERPS26T-29-2 as an additional source of service information for modification of the RAT.

Airbus Service Bulletin A300-29-6049 recommends the prior or concurrent accomplishment of modifications described in the following Airbus Service Bulletins:

• A300-29-6003, dated January 31, 1985, including Change Notice O.A., dated June 9, 1987; which describes procedures for replacing the RAT blade release cable and sheath and modifying the RAT identification plate. Service Bulletin A300-29-6003 refers to Sundstrand Service Bulletin 732365-29-1 as an additional source of service information for the actions.

• A300-29-6005, Revision 1, dated September 2, 1986, which describes procedures for modifying the RAT. Service Bulletin A300-29-6005 refers to Sundstrand Service Bulletin 732365-29-2 as an additional source of service information for the modification.

• A300-29-6039, Revision 04, dated March 22, 2001, which describes procedures for installing a grease nipple and a scraper seal assembly and replacing the locking rod spring with a stronger spring. Service Bulletin A300-29-6039 refers to Hamilton Sundstrand Service Bulletin ERPS26T-29-1 as an additional source of service information for the actions.

• A300-29-6046, Revision 02, dated June 28, 2000, which describes procedures for replacing the RAT with a modified RAT. Service Bulletin A300-29-6046 refers to Hamilton Sundstrand Service Bulletin ERPS26T-29-2 as an additional source of service information for the replacement.

Service Bulletin A310-29-2087 recommends the prior or concurrent accomplishment of modifications described in the following Airbus Service Bulletins:

• A310-29-2003, dated January 20, 1984, which describes procedures for reidentifying RATs and RAT assemblies that are in good condition, performing functional tests, and modifying and reidentifying certain RATs.

• A310-29-2008, dated January 31, 1985, including Change Notice O.A., dated October 6, 1987; which describes procedures for replacing the blade release cable and sheath and modifying the RAT identification plate. Service Bulletin A310-29-2008 refers to Sundstrand Service Bulletin 730816-29-9 as an additional source of service information for the actions.

• A310-29-2011, Revision 1, dated September 2, 1986, which describes procedures for modifying the RAT. Service Bulletin A310-29-2011 refers to Sundstrand Service Bulletin 730816-29-10 as an additional source of service information for the modification.

• A310-29-2078, Revision 04, dated March 22, 2001, which describes procedures for installing a grease nipple and a scraper seal assembly and replacing the locking rod spring with a stronger spring. Service Bulletin A310-29-2078 refers to Hamilton Sundstrand Service Bulletin ERPS26T-29-1 as an additional source of service information for the actions.

• A310-29-2084, Revision 02, dated June 28, 2000, which describes procedures for modifying the RAT. Service Bulletin A310-29-2084 refers to Hamilton Sundstrand Service Bulletin ERPS26T-29-2 as an additional source of service information for the modification.

The following table summarizes the service information for the primary action, the concurrent actions, and secondary references:

Summary of Service Bulletins
For the overhaul, Airbus Service Bulletin— | Refers to Hamilton Sundstrand service bulletin(s)— | And specifies the concurrent modification specified by Airbus Service Bulletin— | Which refers to—
A300-29-0118 | ERPS26T-29-4 | A300-29-0106 | Hamilton Sundstrand Service Bulletin ERPS26T-29-1.
|  | A300-29-0115 | Hamilton Sundstrand Service Bulletin ERPS26T-29-2.
A300-29-6049 | ERPS26T-29-4 and 732365-29-4 | A300-29-6003 | Sundstrand Service Bulletin 732365-29-1.
|  | A300-29-6005 | Sundstrand Service Bulletin 732365-29-2.
|  | A300-29-6039 | Hamilton Sundstrand Service Bulletin ERPS26T-29-1.
|  | A300-29-6046 | Hamilton Sundstrand Service Bulletin ERPS26T-29-2.
A310-29-2087 | ERPS26T-29-4 and 730816-29-12 | A310-29-2003 | [reserved]
|  | A310-29-2008 | Sundstrand Service Bulletin 730816-29-9.
|  | A310-29-2011 | Sundstrand Service Bulletin 730816-29-10.
|  | A310-29-2078 | Hamilton Sundstrand Service Bulletin ERPS26T-29-1.
|  | A310-29-2084 | Hamilton Sundstrand Service Bulletin ERPS26T-29-2.

Accomplishment of the actions specified in the Airbus service bulletins is intended to adequately address the identified unsafe condition. The DGAC classified the Airbus service bulletins as mandatory and issued French airworthiness directive 2001-212(B), dated May 30, 2001, to ensure the continued airworthiness of these airplanes in France.

FAA's Conclusions

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. The FAA has examined the findings of the DGAC, reviewed all available information, and determined that AD action is necessary for products of this type design that are certificated for operation in the United States.

Explanation of Requirements of Proposed Rule

Since an unsafe condition has been identified that is likely to exist or develop on other airplanes of the same type design registered in the United States, the proposed AD would require accomplishment of the actions specified in the Airbus service bulletins described previously.

Cost Impact

The FAA estimates that 153 airplanes of U.S. registry would be affected by this proposed AD. It would take approximately 4 work hours per airplane to remove and replace the RAT, at an average labor rate of $60 per work hour. Incorporation of the various modifications that would be required to complete the proposed overhaul at the overhaul facility would cost an average of approximately $67,500 per airplane, based on vendor-supplied information. Based on these figures, the average cost impact of the proposed AD on U.S. operators is estimated to be $67,740 per airplane, per overhaul.

The cost impact figure discussed above is based on assumptions that no operator has yet accomplished any of the proposed requirements of this AD action, and that no operator would accomplish those actions in the future if this proposed AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Airbus Industrie: Docket 2001-NM-253-AD.

Applicability: Model A300 B2 and A300 B4; A300 B4-600, B4-600R, and F4-600R (collectively called A300-600); and Model A310 series airplanes; certificated in any category; equipped with Dowty or Hamilton Sundstrand ram air turbines (RATs).

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent failure of the RAT to deploy or operate properly in the event of an emergency, which could result in reduced hydraulic pressure or electrical power on the airplane, accomplish the following:

Overhaul

(a) Prior to the accumulation of 20 years since the date of manufacture of the airplane, or within 2 years after the date of this AD, whichever occurs later: Overhaul the RAT in accordance with Airbus Service Bulletin A300-29-0118, dated April 20, 2001 (for Model A300 B2 and A300 B4 series airplanes); A300-29-6049, Revision 02, dated September 10, 2001 (for Model A300-600 series airplanes); or A310-29-2087, dated April 20, 2001 (for Model A310 series airplanes); as applicable. Thereafter, repeat the overhaul at least every 20 years, in accordance with the applicable service bulletin.

Note 2: Accomplishment prior to the effective date of this AD of the overhaul in accordance with Airbus Service Bulletin A300-29-6049, dated April 20, 2001, or Revision 01, dated July 23, 2001, is acceptable for compliance with the initial overhaul requirement of paragraph (a) of this AD.

Note 3: The service bulletins identified in paragraph (a) of this AD refer to Hamilton Sundstrand Service Bulletins 730816-29-12, ERPS26T-29-4, and 732365-29-4 as additional sources of service information for the overhaul actions.

Concurrent Modification Requirements

(b) Prior to or concurrently with the overhaul required by paragraph (a) of this AD: Perform the applicable modifications specified in the following table:

Table 1.—Concurrent Modifications
For Model— | Modify the airplane by— | In accordance with— | Which refers to the following additional source of service information:
(1) A300 series airplanes. | (i) Installing a grease nipple and a scraper seal assembly and replacing the locking rod spring with a stronger spring | Airbus Service Bulletin A300-29-0106, Revision 04, dated March 22, 2001 | Hamilton Sundstrand Service Bulletin ERPS26T-29-1.
| (ii) Replacing the RAT with a modified RAT | A300-29-0115, Revision 01, dated June 28, 2000 | Hamilton Sundstrand Service Bulletin ERPS26T-29-2.
(2) A300-600 series airplanes. | (i) Replacing the RAT blade release cable and sheath and modifying the RAT identification plate | A300-29-6003, dated January 31, 1985, including Change Notice O.A., dated June 9, 1987 | Hamilton Sundstrand Service Bulletin 732365-29-1.
| (ii) Modifying the RAT | A300-29-6005, Revision 1, dated September 2, 1986 | Hamilton Sundstrand Service Bulletin 732365-29-2.
| (iii) Installing a grease nipple and a scraper seal assembly and replacing the locking rod spring with a stronger spring | A300-29-6039, Revision 04, dated March 22, 2001 | Hamilton Sundstrand Service Bulletin ERPS26T-29-1.
| (iv) Replacing the RAT with a modified RAT | A300-29-6046, Revision 02, dated June 28, 2000 | Hamilton Sundstrand Service Bulletin ERPS26T-29-2.
(3) A310 series airplanes | (i) Reidentifying RATs and RAT assemblies that are in good condition, performing functional tests, and modifying and reidentifying certain RATs | A310-29-2003, dated January 20, 1984 | [reserved].
| (ii) Replacing the blade release cable and sheath and modifying the RAT identification plate | A310-29-2008, dated January 31, 1985, including Change Notice O.A., dated October 6, 1987 | Hamilton Sundstrand Service Bulletin 730816-29-9.
| (iii) Modifying the RAT | A310-29-2011, Revision 1, dated September 2, 1986 | Hamilton Sundstrand Service Bulletin 730816-29-10.
| (iv) Installing a grease nipple and a scraper seal assembly and replacing the locking rod spring with a stronger spring | A310-29-2078, Revision 04, dated March 22, 2001 | Hamilton Sundstrand Service Bulletin ERPS26T-29-1.
| (v) Modifying the RAT | A310-29-2084, Revision 02, dated June 28, 2000 | Hamilton Sundstrand Service Bulletin ERPS26T-29-2.

Note 4: The following Airbus service bulletins are also acceptable for compliance with the applicable requirements of paragraph (b) of this AD:

A300-29-0106, Revision 01, dated September 8, 1997; Revision 02, dated January 26, 1999; and Revision 03, dated June 28, 2000.

A300-29-0115, dated September 14, 1998.

A300-29-6003, dated January 31, 1985.

A300-29-6005, dated June 21, 1985.

A300-29-6039, Revision 01, dated September 8, 1997; Revision 02, dated January 26, 1999; and Revision 03, dated June 28, 2000.

A300-29-6046, dated September 14, 1998; and Revision 01, dated December 16, 1998.

A310-29-2008, dated January 31, 1985.

A310-29-2011, dated June 21, 1985.

A310-29-2078, Revision 01, dated September 8, 1997; Revision 02, dated January 26, 1999; and Revision 03, dated June 28, 2000.

A310-29-2084, dated September 14, 1998; and Revision 01, dated December 16, 1998.

Alternative Methods of Compliance

(c) An alternative method of compliance or adjustment of the compliance time that provides an acceptable level of safety may be used if approved by the Manager, International Branch, ANM-116, Transport Airplane Directorate, FAA. Operators shall submit their requests through an appropriate FAA Principal Maintenance Inspector, who may add comments and then send it to the Manager, International Branch, ANM-116.

Note 5: Information concerning the existence of approved alternative methods of compliance with this AD, if any, may be obtained from the International Branch, ANM-116.

Special Flight Permits

(d) Special flight permits may be issued in accordance with sections 21.197 and 21.199 of the Federal Aviation Regulations (14 CFR 21.197 and 21.199) to operate the airplane to a location where the requirements of this AD can be accomplished.

Note 6: The subject of this AD is addressed in French airworthiness directive 2001-212(B), dated May 30, 2001.

Issued in Renton, Washington, on November 9, 2001.
Vi L. Lipski,
Manager, Transport Airplane Directorate, Aircraft Certification Service.

[FR Doc. 01-28795 Filed 11-16-01; 8:45 am]

BILLING CODE 4910-13-U